DEPARTMENT OF LABOR

Pension and Welfare Benefits Administration

Working Group on Challenges to the Employment-Based Healthcare System; Advisory Council on Employee Welfare and Pension Benefits Plans; Notice of Meeting

Pursuant to the authority contained in section 512 of the Employee Retirement Income Security Act of 1974 (ERISA), 29 U.S.C. 1142, a public meeting will be held Friday, May 4, 2001, of the Advisory Council on Employee Welfare and Pension Benefit Plans Working Group assigned to study challenges to the employment-based healthcare system.

The session will take place in Room N-5437 A-C, U.S. Department of Labor Building, Second and Constitution Avenue, NW, Washington, DC 20210. The purpose of the open meeting, which will run from 9:30 a.m. to approximately 4 p.m. with a one-hour lunch break at noon, is for working group members to hear invited academic witnesses discuss either the advantages or the disadvantages of the current employment-based health care system as well as potential alternatives to providing access to health insurance via the employer. The working group also will schedule benefit consultants to discuss the issue.

Members of the public are encouraged to file a written statement pertaining to the topic by submitting 20 copies on or before April 27, 2001, to Sharon Morrissey, Executive Secretary, ERISA Advisory Council, U.S. Department of Labor, Room N-5677, 200 Constitution Avenue, NW, Washington, DC 20210. Individuals or representatives of organizations wishing to address the Working Group should forward their request to the Executive Secretary or telephone (202) 219-8753. Oral presentations will be limited to 20 minutes, but an extended statement may be submitted for the record. Individuals with disabilities, who need special accommodations, should contact Sharon Morrissey by April 27, at the address indicated in this notice.

Organizations or individuals may also submit statements for the record without testifying. Twenty (20) copies of such statements should be sent to the Executive Secretary of the Advisory Council at the above address. Papers will be accepted and included in the record of the meeting if received on or before April 27.

Signed at Washington, DC this 12th day of April 2001.
Alan D. Lebowitz,
Acting Assistant Secretary, Pension and Welfare Benefits Administration.

[FR Doc. 01-9616 Filed 4-17-01; 8:45 am]

BILLING CODE 4570-29-M